DEPARTMENT OF HEALTH AND HUMAN SERVICES

National Institutes of Health

Center for Scientific Review; Amended Notice of Meeting

Notice is hereby given of a change in the meeting of the Center for Scientific Review Special Emphasis Panel PAR Panel: International and Cooperative Projects for the Emerging Global Leader Award, May 07, 2025, 08:00 a.m. to May 08, 2025, 04:00 p.m., National Institutes of Health, Rockledge II, 6701 Rockledge Drive, Bethesda, MD 20892 which was published in the Federal Register on March 20, 2025, 90 FR 13178, Doc No. 2025-04737.

This meeting is being amended to change the meeting from a 2-day to a 1-day meeting on 05/07/2025. The meeting is closed to the public.

Dated: April 15, 2025.
Sterlyn H. Gibson,
Program Specialist, Office of Federal Advisory Committee Policy.

[FR Doc. 2025-06755 Filed 4-18-25; 8:45 am]

BILLING CODE 4140-01-P